DEPARTMENT OF TRANSPORTATION

Federal Aviation Administration

14 CFR Part 39

[Docket No. FAA-2006-26355; Directorate Identifier 2006-NM-198-AD]

RIN 2120-AA64

Airworthiness Directives; Fokker Model F.28 Mark 0070 and 0100 Airplanes

AGENCY: Federal Aviation Administration (FAA), Department of Transportation (DOT).

ACTION: Notice of proposed rulemaking (NPRM).

SUMMARY: The FAA proposes to adopt a new airworthiness directive (AD) for all Fokker Model F.28 Mark 0070 and 0100 airplanes. This proposed AD would require a one-time inspection of the fuel lines located in the left and right main landing gear (MLG) bays to determine the clearance between the fuel and hydraulic lines. If necessary, this proposed AD would also require an inspection of fuel lines for chafing, replacement of a chafed fuel line with a new fuel line, and the repositioning of existing clamps and installation of additional clamps between the fuel and hydraulic lines. This proposed AD results from a fuel leak found in the left MLG bay. We are proposing this AD to detect and correct inadequate clearance between fuel and hydraulic lines in the MLG bay, which could lead to chafing of a fuel line and fuel leakage. A fuel leak near hot brakes could result in a fire in the MLG bay.

DATES: We must receive comments on this proposed AD by December 20, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Fokker Services B.V., Technical Services Dept., P.O. Box 231, 2150 AE Nieuw-Vennep, the Netherlands, for service information identified in this proposed AD.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Comments Invited

We invite you to submit any relevant written data, views, or arguments regarding this proposed AD. Send your comments to an address listed in the ADDRESSES section. Include the docket number “FAA-2006-26355; Directorate Identifier 2006-NM-198-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Civil Aviation Authority—The Netherlands (CAA-NL), which is the airworthiness authority for the Netherlands, notified us that an unsafe condition may exist on all Fokker Model F.28 Mark 0070 and 0100 airplanes. The CAA-NL advises that a fuel leak was found in the left main landing gear (MLG) bay, on a Fokker Model F.28 Mark 0100 airplane. Investigation revealed that inadequate clearance between the fuel and hydraulic lines in the MLG bay led to chafing of the fuel line and consequent fuel leakage. A fuel leak near hot brakes, if not corrected, could result in a fire in the MLG bay.

Relevant Service Information

Fokker Services B.V. has issued Fokker Service Bulletin SBF100-28-041, dated July 20, 2005. The service bulletin describes procedures for a one-time inspection of the fuel lines located in the left and right MLG bays to determine the clearance between the fuel and hydraulic lines. If the clearance is less than 3 mm (millimeters), the service bulletin specifies inspecting the fuel line for chafing and doing corrective actions as necessary. If no chafing is found, the corrective action is to reposition the existing clamps and install additional clamps to obtain a minimum clearance of 3 mm between the fuel and hydraulic lines, as necessary. If chafing is found, the corrective actions are (1) To replace the chafed fuel line with a new fuel line and (2) to reposition the existing clamps and install additional clamps to obtain a minimum clearance of 3 mm between the fuel and hydraulic lines, as necessary. Accomplishing the actions specified in the service information is intended to adequately address the unsafe condition. The CAA-NL mandated the service information and issued Dutch airworthiness directive NL-2005-010 R1, dated September 7, 2005, to ensure the continued airworthiness of these airplanes in the Netherlands.

FAA's Determination and Requirements of the Proposed AD

These airplane models are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for airplanes of this type design that are certificated for operation in the United States.

Therefore, we are proposing this AD, which would require accomplishing the actions specified in the service information described previously.

Clarification of Inspection Terminology

The “inspection” specified in the Fokker service bulletin is referred to as a “general visual inspection” in this proposed AD. We have included the definition for a general visual inspection in a note in the proposed AD.

Costs of Compliance

This proposed AD would affect about 9 airplanes of U.S. registry. The proposed inspection would take about 1 work hour per airplane, at an average labor rate of $80 per work hour. Based on these figures, the estimated cost of the proposed AD for U.S. operators is $720, or $80 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Fokker Services B.V.: Docket No. FAA-2006-26355; Directorate Identifier 2006-NM-198-AD.

Comments Due Date

(a) The FAA must receive comments on this AD action by December 20, 2006.

Affected ADs

(b) None.

Applicability

(c) This AD applies to all Fokker Model F.28 Mark 0070 and 0100 airplanes, certificated in any category.

Unsafe Condition

(d) This AD results from a fuel leak found in the left main landing gear (MLG) bay. We are issuing this AD to detect and correct inadequate clearance between fuel and hydraulic lines in the MLG bay, which could lead to chafing of a fuel line and fuel leakage. A fuel leak near hot brakes could result in a fire in the MLG bay.

Compliance

(e) You are responsible for having the actions required by this AD performed within the compliance times specified, unless the actions have already been done.

Inspections for Clearance and Chafing

(f) Within 6 months after the effective date of this AD, do a general visual inspection of the fuel lines located in the left and right MLG bays to determine the clearance between the fuel and hydraulic lines, in accordance with Part 1 of the Accomplishment Instructions of Fokker Service Bulletin SBF100-28-041, dated July 20, 2005. If the clearance of a fuel line is 3 mm (millimeters) or more, no further action is required by this AD for that fuel line only. If the clearance of a fuel line is less than 3 mm, before further flight, do a general visual inspection of the fuel line for chafing in accordance with Part 1 of the Accomplishment Instructions of the service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Corrective Actions

(g) If the fuel line is found chafed during the inspection for chafing specified in paragraph (f) of this AD, before further flight after that inspection, do the actions in paragraphs (g)(1) and (g)(2) of this AD. If the fuel line is not found chafed, within 6 months after the inspection for chafing, do the actions in paragraph (g)(2) of this AD.

(1) Replace the chafed fuel line with a new fuel line in accordance with Part 1 of the Accomplishment Instructions of Fokker Service Bulletin SBF100-28-041, dated July 20, 2005.

(2) Reposition the existing clamps and install additional clamps to obtain a minimum clearance of 3 mm between the fuel and hydraulic lines, as applicable, in accordance with Part 2 of the Accomplishment Instructions of Fokker Service Bulletin SBF100-28-041, dated July 20, 2005.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) Dutch airworthiness directive NL-2005-010 R1, dated September 7, 2005, also addresses the subject of this AD.

Issued in Renton, Washington, on November 8, 2006.
Kalene C. Yanamura,
Acting Manager, Transport Airplane Directorate, Aircraft Certification Service.

[FR Doc. E6-19538 Filed 11-17-06; 8:45 am]

BILLING CODE 4910-13-P